DEPARTMENT OF THE INTERIOR

Fish and Wildlife Service

Notice of Intent To Conduct a Public Scoping Meeting and Perform an Environmental Review for the Kaua`i Island Utility Cooperative Habitat Conservation Plan, Kaua`i Island, HI

AGENCY: Fish and Wildlife Service, Interior.

ACTION: Notice of intent; scoping meeting.

SUMMARY: Pursuant to the National Environmental Policy Act (NEPA), the Fish and Wildlife Service (Service) intends to conduct public scoping necessary to gather information to prepare an environmental assessment (EA) or environmental impact statement (EIS) (collectively referred to as “environmental document”) for a Habitat Conservation Plan (HCP) being prepared by the Kaua`i Island Utility Cooperative (KIUC). The draft HCP is being prepared under section 10(a)(1)(B) of the Endangered Species Act (ESA). KIUC intends to apply for an incidental take permit under the ESA to authorize take of the federally endangered Hawaiian Petrel (Pterodroma sandwichensis), the federally threatened Newell's Shearwater (Puffinus auricularis newelli), and the Band-rumped Storm-Petrel (Oceanodroma castro), a Federal candidate for listing that could become listed during the term of the permit (collectively referred to as the “Covered Species”). This notice is provided to (1) describe the proposed action and possible alternatives; (2) advise other Federal and State agencies, affected Tribes, and the public of our intent to prepare an environmental document; (3) announce the initiation of a public scoping period and the holding of a public scoping meeting; (4) obtain information to assist the Service in determining whether to prepare an EA or EIS; and (5) obtain suggestions and information on the scope of issues and alternatives to be addressed in the environmental document. Written comments will be accepted at a public meeting. In addition, written comments may be submitted by mail, facsimile transmission, or e-mail.

DATES: Written comments must be received on or before February 8, 2008. Oral or written comments may be submitted at a public scoping meeting to be held on January 23, 2008, from 6 p.m. to 8 p.m.

ADDRESSES: The public scoping meeting will be held at the Planning Commission Conference Room, Mo'ikeha Building, 4444 Rice Street, Līhu`e, Kaua`i, HI. Written comments, or questions related to the preparation of the environmental document, should be submitted to Jeff Newman, U.S. Fish and Wildlife Service, Pacific Islands Fish and Wildlife Office, 300 Ala Moana Boulevard, Room 3-122, [or P.O. Box 50088], Honolulu, HI 96850-5000, fax (808) 792-9580, e-mail Jeff_Newman@fws.gov.

FOR FURTHER INFORMATION CONTACT: Jeff Newman, Pacific Islands Fish and Wildlife Office (see ADDRESSES), or phone (808) 792-9400.

SUPPLEMENTARY INFORMATION:

Reasonable Accommodation

Persons needing reasonable accommodations in order to attend and participate in the public meeting should contact Jeff Newman as soon as possible. In order to allow sufficient time to process requests, please call no later than one week before the public meeting. Information regarding this proposed action is available in alternative formats upon request.

Statutory Authority

Section 9 of the ESA (16 U.S.C. 1538) and the implementing regulations prohibit the take of animal species listed as endangered or threatened. The term “take” is defined under the ESA (16 U.S.C. 1532(19)) as to harass, harm, pursue, hunt, shoot, wound, kill, trap, capture, or collect, or to attempt to engage in any such conduct. “Harm” is defined by Service regulation (50 CRF 17.3) to include significant habitat modification or degradation where it actually kills or injures wildlife by significantly impairing essential behavioral patterns, including breeding, feeding, and sheltering. However, under section 10(a)(1)(B) of the ESA, the Service may issue permits to authorize “incidental take” of listed species. “Incidental take” is defined by the ESA as take that is incidental to, and not the purpose of, carrying out an otherwise lawful activity. Regulations governing permits for threatened and endangered species are found in the Code of Federal Regulations at 50 CFR 17.32 and 50 CFR 17.22.

Section 10 of the ESA specifies the requirements for the issuance of incidental take permits to non-Federal entities. Any proposed take must be incidental to otherwise lawful activities and cannot appreciably reduce the likelihood of the survival and recovery of the species in the wild. The impacts of such take must also be minimized and mitigated to the maximum extent practicable. To obtain an incidental take permit, an applicant must prepare an HCP describing the impact that will likely result from the proposed taking, the measures for minimizing and mitigating the take, the funding available to implement such measures, alternatives to the taking, and the reason why such alternatives are not being implemented.

NEPA (42 U.S.C. 4321 et seq.) requires that Federal agencies conduct an environmental analysis of their proposed actions to determine if the actions may significantly affect the human environment. Under NEPA, a reasonable range of alternatives to the proposed action is developed and considered in the Service's environmental review. Alternatives considered for analysis in an environmental document may include: Variations in the scope of covered activities; variations in the location, amount, and type of conservation; variations in permit duration; or a combination of these elements. In addition, the environmental document will identify potentially significant direct, indirect, and cumulative impacts on biological resources, land use, air quality, water quality, water resources, socioeconomics, and other environmental issues that could occur with the implementation of the proposed action and alternatives. For potentially significant impacts, the environmental document may identify avoidance, minimization and mitigation measures to reduce these impacts, where feasible, to a level below significance.

Background

KIUC is a utility cooperative that generates and distributes electricity to the entire island of Kaua‘i, Hawai‘i. KIUC is developing a draft HCP in anticipation of applying for an incidental take permit. The proposed HCP will address the incidental take of three Covered Species associated with the operation and maintenance of KIUC's existing and anticipated facilities over a period of 50 years.

The three Covered Species are seabird species that breed on Kaua‘i and feed on the open ocean. Each of the covered species spends a large part of the year at sea. Adults generally return to their colonial nesting grounds in the interior mountains of Kaua‘i beginning in March and April, and depart beginning in September. Fledglings (i.e., young birds learning how to fly) fly from the nesting colony to the sea in the fall. Both adults and fledglings are known to occasionally collide with tall buildings, towers, powerlines, and other structures while flying at night between their nesting colonies and at-sea foraging areas. These birds, and particularly fledglings, are also attracted to bright lights. Disoriented birds are commonly observed circling repeatedly around exterior light sources until they fall exhausted to the ground or collide with structures.

To address the issue that existing facilities currently impact the Covered Species, the Service and KIUC entered into a Memorandum of Agreement (MOA) in November 2002, and again in January 2005. Under the MOAs KIUC agreed to implement certain defined interim conservation measures (ICMs) to reduce the impacts of its facilities on seabirds while more long-term conservation actions are being developed in a HCP. Examples of ICMs implemented to date include: Shielding streetlights on KIUC power poles to minimize lighting disorientation of seabirds; and funding, enhancing and taking the lead on implementing the state's “Save Our Shearwaters” (SOS) program to rescue downed fledglings.

Proposed Plan

Since November 2002, KIUC has been working with the Service to develop a draft HCP, and also to simultaneously implement certain interim conservation measures to benefit the Covered Species. (Because the Covered Species are also subject to protection under the State of Hawai‘i's own endangered species law, KIUC has also coordinated with the State's Department of Land and Natural Resources concerning the proposed HCP and the requirements for obtaining an incidental take license under state law.) Pursuant to NEPA, the Service conducted a public scoping meeting on the proposed HCP on September 16, 2004. Several comments received during that initial scoping period requested that additional information be made available regarding the proposed HCP, and that a second scoping meeting be convened after such additional information was provided. Since that time, KIUC has made progress in developing the draft HCP, based in part on consultations with the Service and the Hawai‘i Department of Land and Natural Resources. As a result, the Service is now able to provide additional information about the likely scope and contents of the proposed HCP, and has determined that it is appropriate to conduct an additional round of public scoping under NEPA at this time.

The proposed HCP would cover KIUC activities within all areas on Kaua`i where its facilities (e.g., generating stations, power lines, utility poles, lights) are located. These activities include the continuing operation, maintenance, and repair of these and other existing facilities, and the construction, operation, maintenance and repair of certain new facilities, during the term of the incidental take permit.

The proposed HCP will describe the impacts of take associated with those activities on the Covered Species, and will propose a program to minimize and mitigate these impacts of that take on each of the Covered Species. Minimization measures in the proposed HCP may include: (i) Shielding KIUC's streetlights and facility lighting; (ii) installing bird diverter devices on certain power lines; (iii) developing and implementing lighting and power line performance standards; and (iv) implementing design modifications that minimize or eliminate the risk of seabird collisions (e.g., installing power lines below seabird flight altitudes, modifying power line arrays, or installing bird diverter devices). Mitigation measures may include implementation of an expanded SOS program—a program begun by the State of Hawai‘i in the late 1970's to retrieve, evaluate, rehabilitate and release back to the wild downed seabirds during the fall fledging season. KIUC's proposed mitigation program may also include: breeding colony management actions aimed at reducing predation by invasive mammalian species; public education and outreach designed to reduce actions that contribute to bird downings; and additional scientific research.

Environmental Review

The Service will prepare an environmental document to analyze the environmental impacts associated with the potential issuance of the requested incidental take permit, and the associated implementation by KIUC of the HCP. A private contractor, Planning Solutions, Inc., will help to prepare the environmental document. The Service will supervise and be responsible for directing the consultant's work and for the scope and content of the document.

The environmental document will consider the proposed action and a reasonable range of alternatives. The Service currently anticipates that the alternatives may consist of the following: (1) A “no action” alternative, in which the requested incidental take permit would not be issued and the conservation program in the proposed HCP would not be implemented. However, this action is not considered to be viable because a permit for incidental take of the Covered Species is needed; (2) an “under-grounding” alternative in which some of KIUC's power lines would be placed underground, thereby eliminating several sources of take of the Covered Species; and (3) a conservation program alternative that in addition to the proposed minimization measures would implement a mitigation program aimed principally at actively managing multiple seabird breeding colonies with the biological goal of increasing reproductive success and colony size. We invite comments and suggestions from all interested parties to ensure that the environmental document addresses a reasonable range of alternatives and that all significant issues related to them are identified and addressed.

Our environmental review will be conducted in accordance with the requirements of NEPA, its implementing regulations (40 CFR Parts 1500-1508), other applicable Federal laws and regulations, and applicable policies and procedures of the Service. This notice is being furnished in accordance with 40 CFR 1501.7 of the NEPA regulations to obtain suggestions and information from other agencies and the public on the scope of issues and alternatives to be addressed in the environmental document.

The public scoping meeting will allocate time for presentations by the Service and KIUC; this will be followed by a period for the submission of oral and/or written comments. All comments and materials received, including names and addresses of those presenting them, will become part of the administrative record and may be released to the public.

Dated: December 3, 2007.
David J. Wesley,
Deputy Regional Director, Region 1, Portland, Oregon.

[FR Doc. E7-24149 Filed 12-12-07; 8:45 am]

BILLING CODE 4310-55-P